FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 28, 2002.

A. Federal Reserve Bank of St. Louis (Randall C. Sumner, Vice President) 411 Locust Street, St. Louis, Missouri 63166-2034:

1. James Stewart and Shirley Stewart, both of Crothersville, Indiana; to retain voting shares of The Bancshares, Inc., Scottsburg, Indiana, and thereby indirectly retain voting shares of The Scott County State Bank, Scottsburg, Indiana.

B. Federal Reserve Bank of Minneapolis (Julie Stackhouse, Vice President) 90 Hennepin Avenue, Minneapolis, Minnesota 55480-0291:

1. Douglas G. Hansen, Currie, Minnesota; to acquire voting shares of Currie Bancorporation, Inc., Currie, Minnesota, and thereby indirectly acquire voting shares of Currie State Bank, Currie, Minnesota.

C. Federal Reserve Bank of Kansas City (Susan Zubradt, Assistant Vice President) 925 Grand Avenue, Kansas City, Missouri 64198-0001:

1. Blair Lauritzen Gogel, Mission Hills, Kansas, and Clarkson Davis Lauritzen, Boston, Massachusetts; to acquire voting shares of K.B.J. Enterprises, Inc., Omaha, Nebraska, and thereby indirectly acquire voting shares of Sibley State Bank, Sibley, Iowa.

Board of Governors of the Federal Reserve System, February 8, 2002.
Robert deV. Frierson,
Deputy Secretary of the Board.

[FR Doc. 02-3558 Filed 2-13-02; 8:45 am]

BILLING CODE 6210-01-S